DEPARTMENT OF COMMERCE

International Trade Administration

[A-570-055]

Carton-Closing Staples From the People's Republic of China: Antidumping Duty Order

AGENCY: Enforcement and Compliance, International Trade Administration, Department of Commerce.

SUMMARY: Based on affirmative final determinations by the Department of Commerce (Commerce) and the International Trade Commission (ITC), Commerce is issuing an antidumping duty order on carton-closing staples from the People's Republic of China (China).

DATES: Applicable May 8, 2018.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

In accordance with section 735(d) and 777(i)(1) of the Tariff Act of 1930, as amended (the Act), and 19 CFR 351.210(c), on March 28, 2018, Commerce published its affirmative final determination in the less than fair value (LTFV) investigation of carton-closing staples from China.¹ On April 30, 2018, the ITC notified Commerce of its final determination pursuant to section 735(b)(1)(A)(i) of the Act, that an industry in the United States is materially injured or threatened with material injury by reason of imports of carton-closing staples from China.²

¹ See Carton-Closing Staples from the People's Republic of China: Final Affirmative Determination of Sales at Less Than Fair Value, 83 FR 13236 (March 28, 2018).

² See Letter to Gary Taverman, Acting Assistant Secretary of Commerce for Enforcement and Compliance, from Rhonda K. Schmidtlein, Chairman of the U.S. International Trade Commission, regarding carton-closing staples from China, dated April 30, 2018 (ITC Notification). See also Carton-Closing Staples from China, Inv. No. 731-TA-1359, USITC Pub. 4778, (April 2018) (Final).

Scope of the Order

The scope of the order is carton-closing staples. Carton-closing staples may be manufactured from carbon, alloy, or stainless steel wire, and are included in the scope of the investigation regardless of whether they are uncoated or coated, regardless of the type of coating.

Carton-closing staples are generally made to American Society for Testing and Materials (ASTM) specification ASTM D1974/D1974M-16, but can also be made to other specifications. Regardless of specification, however, all carton-closing staples meeting the scope description are included in the scope. Carton-closing staples include stick staple products, often referred to as staple strips, and roll staple products, often referred to as coils. Stick staples are lightly cemented or lacquered together to facilitate handling and loading into stapling machines. Roll staples are taped together along their crowns. Carton-closing staples are covered regardless of whether they are imported in stick form or roll form.

Carton-closing staples vary by the size of the wire, the width of the crown, and the length of the leg. The nominal leg length ranges from 0.4095 inch to 1.375 inches and the nominal crown width ranges from 1.125 inches to 1.375 inches. The size of the wire used in the production of carton-closing staples varies from 0.029 to 0.064 inch (nominal thickness) by 0.064 to 0.100 inch (nominal width).

Carton-closing staples subject to this order are currently classifiable under subheadings 8305.20.00.00 and 7317.00.65.60 of the Harmonized Tariff Schedule of the United States (HTSUS). While the HTSUS subheadings and ASTM specification are provided for convenience and for customs purposes, the written description of the subject merchandise is dispositive.

Antidumping Duty Order

In accordance with sections 735(b)(1)(A) and 735(d) of the Act, the ITC has notified Commerce of its final determination in this investigation, in which it found that imports of carton-closing staples from China are materially injuring or threatening material injury to a U.S. industry.³ Therefore, in accordance with sections 735(c)(2) and 736(a) of the Act, we are publishing this antidumping duty order.

³ See ITC Notification.

As a result of the ITC's final determination, in accordance with section 736(a)(1) of the Act, Commerce will direct U.S. Customs and Border Protection (CBP) to assess, upon further instruction by Commerce, antidumping duties equal to the amount by which the normal value of the merchandise exceeds the export price (or constructed export price) of the merchandise, for all relevant entries of carton-closing staples from China. These antidumping duties will be assessed on unliquidated entries from China entered, or withdrawn from warehouse, for consumption on or after November 3, 2017, the date on which Commerce published the Preliminary Determination,⁴ but will not include entries occurring after the expiration of the provisional measures period and before publication of the ITC's final injury determination, as further described below.

⁴ See Carton-Closing Staples from the People's Republic of China: Preliminary Affirmative Determination of Sales at Less Than Fair Value, Postponement of Final Determination and Extension of Provisional Measures, 82 FR 51213 (November 3, 2017) (Preliminary Determination).

Continuation of Suspension of Liquidation

In accordance with section 735(c)(1)(B) of the Act, we will instruct CBP to continue to suspend liquidation on entries of subject merchandise from China. We will also instruct CBP to require cash deposits equal to the estimated amount by which the normal value exceeds the U.S. price as indicated in the chart below. These instructions suspending liquidation will remain in effect until further notice.

Accordingly, effective on the date of publication of the ITC's final affirmative injury determination, CBP will require, at the same time as importers would normally deposit estimated duties on this subject merchandise, a cash deposit equal to the estimated antidumping duty margin as discussed above.⁵ The “China-wide” rate applies to all exporters of subject merchandise not specifically listed in the table below.

⁵ See section 736(a)(3) of the Act.

Provisional Measures

Section 733(d) of the Act states that instructions issued pursuant to an affirmative preliminary determination may not remain in effect for more than four months, except where exporters representing a significant proportion of exports of the subject merchandise request Commerce to extend that four-month period to no more than six months. At the request of the exporters that account for a significant portion of carton-closing staples from China, we extended the four-month period to six months in the Preliminary Determination dated November 3, 2017.⁶ Therefore, the extended period beginning on November 3, 2017, the date of publication of the Preliminary Determination, ended May 1, 2018. Furthermore, section 737(b) of the Act states that definitive duties are to begin on the date of publication of the ITC's final injury determination.

⁶ See Preliminary Determination, 82 FR at 51215.

Therefore, in accordance with section 733(d) of the Act and our practice, we will instruct CBP to terminate the suspension of liquidation and to liquidate, without regard to antidumping duties, unliquidated entries of carton-closing staples from China entered, or withdrawn from warehouse, for consumption on or after May 2, 2018, the day after which the provisional measures expired, until and through the day preceding the date of publication of the ITC's final injury determinations in the Federal Register. Suspension of liquidation will resume on the date of publication of the ITC's final determination in the Federal Register.

Estimated Dumping Margin

Commerce determines that the estimated final dumping margins are as follows:

Producer | Exporter | Margin (percent)
Yueda Group: Shanghai Yueda Nails Co., Ltd., or Qiushan Printing Machinery Co., Ltd. | Yueda Group: Shanghai Yueda Nails Co., Ltd., or Fastnail Products Limited, or Wuhan FOPO Trading Co., Ltd., or China Dinghao Co., Limited | 263.40
Hangzhou Huayu Machinery Co., Ltd | Hangzhou Huayu Machinery Co., Ltd | 115.65
The Stanley Works (Langfang) Fastening Systems Co., Ltd | The Stanley Works (Langfang) Fastening Systems Co., Ltd | 115.65
China-Wide Entity | 263.40

Notification to Interested Parties

This notice constitutes the antidumping duty order with respect to carton-closing staples from China, pursuant to section 736(a) of the Act. Interested parties may contact Commerce's Central Records Unit, Room B8024 of the main Commerce building, for copies of an updated list of antidumping duty orders currently in effect.

This order is issued and published in accordance with sections 736(a) of the Act and 19 CFR 351.211(b).

Dated: May 2, 2018.
Gary Taverman,
Deputy Assistant Secretary for Antidumping and Countervailing Duty Operations, performing the non-exclusive functions and duties of the Assistant Secretary for Enforcement and Compliance.

[FR Doc. 2018-09754 Filed 5-4-18; 4:15 pm]

BILLING CODE 3510-DS-P